DEPARTMENT OF ENERGY

Federal Energy Regulatory Commission

Notice of Termination of License by Implied Surrender and Soliciting Comments, Protests, and Motions To Intervene

March 23, 2007.

Take notice that the following hydroelectric proceeding has been initiated by the Commission:

a. Type of Proceeding: Termination of license by implied surrender.

b. Project No.: 9300-017.

c. Date Initiated: March 21, 2007.

d. Licensee: The licensee is James Lichoulas Jr.

e. Name and Location of Project: The constructed 346-kilowatt Appleton Trust Project is located on the Hamilton Canal in Middlesex County, Massachusetts.

f. Filed Pursuant to: 18 CFR 6.4.

g. Licensee Contact Information: Mr. James Lichoulas, Jr., 57 Mill Street, Woburn, MA 01801.

h. FERC Contact: Tom Papsidero, (202) 502-6002.

i. Deadline for filing comments, protests, and motions to intervene: April 23, 2007.

All documents (original and eight copies) should be filed with Philis J. Posey, Acting Secretary, Federal Energy Regulatory Commission, 888 First Street, NE., Washington, DC 20426. Comments, protests and interventions may be filed electronically via the Internet in lieu of paper; see 18 CFR 385.2001(a)(1)(iii) and the instructions on the Commission's Web site under the “e-Filing” link. The Commission strongly encourages electronic filings. Please include the project number (P-9300-017) on any documents or motions filed.

The Commission's Rules of Practice and Procedure require all intervenors filing documents with the Commission to serve a copy of that document on each person in the official service list for the project. Further, if an intervenor files comments or documents with the Commission relating to the merits of an issue that may affect the responsibilities of a particular resource agency, they must also serve a copy of the document on that resource agency.

j. Description of Existing Facilities: The constructed project consists of the following existing facilities: (1) An intake off the Hamilton Canal; (2) two 11-foot-wide and 160-foot-long open masonry flumes; (3) an 11-foot-wide and 20-foot-long steel penstock which funnels the water into; (4) an existing turbine chamber which contains two turbine-generators with an installed capacity of 346 kW; (5) two stone masonry tailraces; (6) 480-volt generator leads; (7) a 0.48/13.8-kV transformer; (8) a 300-foot-long, 480-volt underground cable; and (9) appurtenant facilities.

k. Description of Proceeding: 18 CFR 6.4 of the Commission's regulations provides, among other things, that it is deemed to be the intent of a licensee to surrender a license, if the licensee abandons a project for a period of three years.

A license for the Appleton Trust Project was issued by Order Issuing License (Minor Project) on July 18, 1986 (36 FERC ¶ 62,047). The project has not operated regularly since November 1994 and the licensee, James Lichoulas, Jr., has not made necessary repairs to resume operations. By letter of March 17, 2003, the Commission's Division of Dam Safety and Inspections, New York Regional Office directed the licensee to resume project operation by May 30, 2003, and to provide a status report to that office by June 15, 2003. The licensee did not comply. By letter of September 23, 2004, Commission staff informed the licensee that the project was considered abandoned and that the Commission may terminate the license for the project under an implied surrender proceeding. In this letter, the licensee was given the opportunity to voluntarily surrender the license.

On December 6, 2004, the licensee filed a response to Commission staff's September 23, 2004 letter, stating that the reason repairs had not been done at the project was that the Appleton Mills area had been undergoing a major selective demolition of 400,000 of its 600,000 square feet and that an asbestos removal and clean up process had gone on for several years. In the December 6, 2004 filing, the licensee stated that necessary planning was underway for the reconstruction of the equipment and wheelhouse. The licensee further stated that it was his plan to develop a full scope of work by early March 2005 and that he would forward an outline of the scope with a full timeline projection to the Commission. However, a scope of work was never filed. On July 26, 2006, the City of Lowell, Massachusetts (City) filed a letter with the Commission stating that the City had acquired the parcel of land on which the licensed Appleton Trust Project is located.

To date, the licensee has not made the necessary repairs to resume operations at the project and the project is hereby considered abandoned.

l. Location of the Order: A copy of the order is available for inspection and reproduction at the Commission in the Public Reference Room or may be viewed on the Commission's Web site at http://www.ferc.gov using the “eLibrary” link. Enter the docket number excluding the last three digits in the docket number field to access the document. For assistance, call toll-free 1-866-208-3676 or e-mail FERCOnlineSupport@ferc.gov. For TTY, call (202) 502-8659.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the proceeding.

Comments, protests and interventions may be filed electronically via the Internet in lieu of paper; See 18 CFR 385.2001 (a)(1)(iii) and the instructions on the Commission's Web site under “e-filing” link. The Commission strongly encourages electronic filing.

o. Filing and Service of Responsive Documents—Any filings must bear in all capital letters the title “COMMENTS”, “PROTEST”, or “MOTION TO INTERVENE”, and “RECOMMENDATIONS FOR TERMS AND CONDITIONS”, as applicable, and the Project Number of the proceeding. Any of the above-named documents must be filed by providing the original and the number of copies provided by the Commission's regulations to: The Secretary, Federal Energy Regulatory Commission, 888 First Street, NE., Washington, DC 20426. An additional copy must be sent to Director, Division of Hydropower Administration and Compliance, Federal Energy Regulatory Commission, at the above-mentioned address.

p. Agency Comments—Federal, state, and local agencies are invited to file comments on the described proceeding. If an agency does not file comments within the time specified for filing comments, it will be presumed to have no comments.

Philis J. Posey,
Acting Secretary.

[FR Doc. E7-5771 Filed 3-28-07; 8:45 am]

BILLING CODE 6717-01-P